DEPARTMENT OF HEALTH AND HUMAN SERVICES

Centers for Medicare & Medicaid Services

[Document Identifier: CMS-10765]

Agency Information Collection Activities: Submission for OMB Review; Comment Request; Correction

AGENCY: Centers for Medicare & Medicaid Services (CMS), HHS.

ACTION: Notice, correction.

SUMMARY: On June 27, 2025, CMS published a notice in the Federal Register that sought comment on a collection of information concerning CMS-10765 (OMB control number 0938-1420) entitled “Review Choice Demonstration for Inpatient Rehabilitation Facility (IRF) Services.” The type of information collection request listed in the notice is incorrect. This document corrects the error.

FOR FURTHER INFORMATION CONTACT: William N. Parham, III, (410) 786-4669.

SUPPLEMENTARY INFORMATION:

I. Background

In the June 27, 2025, issue of the Federal Register (90 FR 27540), we published a Paperwork Reduction Act notice requesting a 30-day public comment period for the information collection request identified under CMS-10765, OMB control number 0938-1420, and titled “Review Choice Demonstration for Inpatient Rehabilitation Facility (IRF) Services.”

II. Explanation of Error

In the June 27, 2025 (90 FR 27540) notice, the type of information collection request is incorrect. The incorrect language is located in the left column of page 27540, the third line from the bottom, and reads as follows “1. Type of Information Collection Request: Extension of the currently approved collection.” All the other information contained in the June 20, 2025, notice is correct and remains unchanged. The related public comment period remains in effect and ends August 19, 2025.

III. Correction of Error

In FR Doc. 2025-11900 of June 20, 2025 (90 FR 27540), page 27540, the language in the left column, the third line from the bottom “1. Type of Information Collection Request: Extension of the currently approved collection” is corrected to read as follows:

“1. Type of Information Collection Request: Reinstatement with change without change of a previously approved collection.”

William N. Parham, III,
Director, Division of Information Collections and Regulatory Impacts, Office of Strategic Operations and Regulatory Affairs.

[FR Doc. 2025-12566 Filed 7-3-25; 8:45 am]

BILLING CODE 4120-01-P